DEPARTMENT OF COMMERCE

National Oceanic and Atmospheric Administration

RIN 0648-XE308

Magnuson-Stevens Fishery Conservation and Management Act Provisions; Small-Mesh Multispecies Fishery; Notice of Intent To Withdraw Existing Draft Environmental Impact Statement for Amendment 22 to the Northeast Multispecies Fishery Management Plan

AGENCY: National Marine Fisheries Service (NMFS), National Oceanic and Atmospheric Administration (NOAA), Commerce.

ACTION: Notice of withdrawal.

SUMMARY: The New England Fishery Management Council initiated development of Amendment 22 to the Northeast Multispecies Fishery Management Plan, which considered limited access alternatives for the small-mesh multispecies fishery, in 2015. At its December 2018 meeting, the Council voted to take no action on any of the limited access alternatives analyzed in the draft amendment and draft environmental impact statement. With this decision the Council and the National Marine Fisheries Service have completed all the necessary work on this action and hereby withdraw the draft environmental impact statement from further consideration.

FOR FURTHER INFORMATION CONTACT: Peter Burns, Fishery Policy Analyst, 978-281-9144, peter.burns@noaa.gov.

SUPPLEMENTARY INFORMATION:

Background

The small-mesh multispecies complex consists of five stocks: Northern silver hake, southern silver hake, and offshore hake, all collectively referred to as whiting; along with northern and southern red hake. The New England Fishery Management Council manages these stocks as part of the Northeast Multispecies Fishery Management Plan (FMP). Fishermen targeting whiting and red hake use small-mesh trawl gear, authorized by multiple exemptions to the Northeast multispecies (also called groundfish) regulations. The small-mesh multispecies fishery is open access, meaning any vessel may obtain a permit to fish with small-mesh gear to target whiting and red hake.

Based on specifications recommended by the Council, NMFS sets annual catch levels for each of the small-mesh multispecies stocks. The fishery routinely harvests only a small fraction of the allowable silver hake landings each year, due to high bycatch levels of red hake that reduce the possession limits to incidental levels when harvest levels reach a certain percentage of the red hake annual catch limits. All whiting and northern red hake stocks are healthy; southern red hake is overfished and experiencing overfishing.

The Council expressed concerns that the fishery could become overcapitalized if it remains open access. In response, the Council developed Amendment 22 to the FMP. The amendment considered multiple alternatives for a limited access program, including various options for possession limits and permit conditions, contingent upon the selection of one of the limited access alternatives. The Council's preferred alternative prior to public hearings was to maintain open access, which it ultimately selected when it took final action on the draft Amendment on December 4, 2018.

Amendment 22 included a draft environmental impact statement (DEIS), which analyzed the impacts of the various management alternatives. At the recommendation of the Council, NMFS published a Notice of Intent to prepare an environmental impact statement on November 23, 2015 (80 FR 72951). In July 2018, the Council hosted a series of public hearings and solicited comments on the DEIS and amendment. Along with the DEIS, the Council prepared a separate public hearing document to summarize the impacts of alternatives, which included the estimated number of vessels that would qualify under each limited access alternative. After the public hearings, but prior to final action, the Council discovered a discrepancy between the numbers in the public hearing document and the DEIS, prompting the Council to announce a second comment period during October and November 2018, which included an informational webinar.

The majority of the comments received on the issue favored the no action/preferred alternative. The commenters argued that keeping the fishery open access would allow more flexibility for fishermen who may have few other options given the limited access approach to many fisheries in the Northeast. After careful consideration of the public comments received and extensive examination of the alternatives analyzed in the DEIS and draft amendment, the Council voted to maintain status quo and take no action to limit access to the small-mesh multispecies fishery. Consequently, we are informing the public that the work on this action is complete and the DEIS is withdrawn from further consideration.

Authority: 16 U.S.C. 1801 et seq.

Dated: February 20, 2019.
Alan D. Risenhoover,
Director, Office of Sustainable Fisheries, National Marine Fisheries Service.

[FR Doc. 2019-03199 Filed 2-22-19; 8:45 am]

BILLING CODE 3510-22-P